DEPARTMENT OF ENERGY

Federal Energy Regulatory Commission

Combined Notice of Filings #1

Take notice that the Commission received the following electric corporate filings:

Docket Numbers: EC25-105-000.

Applicants: CEI KMEC HoldCo, LLC, CEI KMEC GP, LLC, AL KM LP Holdings, LLC, AL KM GP Holdings, LLC.

Description: Joint Application for Authorization Under Section 203 of the Federal Power Act of CEI KMEC HoldCo, LLC, et al.

Filed Date: 6/17/25.

Accession Number: 20250617-5296.

Comment Date: 5 p.m. ET 7/8/25.

Take notice that the Commission received the following electric rate filings:

Docket Numbers: ER16-2019-008.

Applicants: Five Points Solar Park LLC.

Description: Triennial Market Power Analysis for Southwest Region of Five Points Solar Park LLC.

Filed Date: 6/17/25.

Accession Number: 20250617-5282.

Comment Date: 5 p.m. ET 7/8/25.

Docket Numbers: ER24-925-001.

Applicants: Wilderness Line Holdings, LLC.

Description: Supplement to 11/07/2024, Wilderness Line Holdings, LLC tariff filing.

Filed Date: 6/13/25.

Accession Number: 20250613-5227.

Comment Date: 5 p.m. ET 7/7/25.

Docket Numbers: ER25-1845-002.

Applicants: Orange and Rockland Utilities, Inc.

Description: Tariff Amendment: O&R WDS Deficiency Response 6-18-2025 to be effective 4/1/2025.

Filed Date: 6/18/25.

Accession Number: 20250618-5102.

Comment Date: 5 p.m. ET 7/9/25.

Docket Numbers: ER25-2218-000.

Applicants: Coldwater River Solar, LLC.

Description: Amendment to 05/14/2025, Coldwater River Solar, LLC tariff filing.

Filed Date: 6/17/25.

Accession Number: 20250617-5279.

Comment Date: 5 p.m. ET 7/8/25.

Docket Numbers: ER25-2534-000.

Applicants: Keydet Solar Center, LLC.

Description: 205(d) Rate Filing: COC normal to be effective 6/19/2025.

Filed Date: 6/17/25.

Accession Number: 20250617-5273.

Comment Date: 5 p.m. ET 7/8/25.

Docket Numbers: ER25-2535-000.

Applicants: Southwest Power Pool, Inc.

Description: 205(d) Rate Filing: 4408 Panama Energy Center GIA to be effective 5/27/2025.

Filed Date: 6/18/25.

Accession Number: 20250618-5001.

Comment Date: 5 p.m. ET 7/9/25.

Docket Numbers: ER25-2536-000.

Applicants: Public Service Company of Colorado.

Description: 205(d) Rate Filing: 2025-06-18-TCC-T-2024-7-SISA-847-0.0.0 to be effective 3/20/2025.

Filed Date: 6/18/25.

Accession Number: 20250618-5064.

Comment Date: 5 p.m. ET 7/9/25.

Docket Numbers: ER25-2537-000.

Applicants: Southwest Power Pool, Inc.

Description: 205(d) Rate Filing: 1166R47 Oklahoma Municipal Power Authority NITSA and NOA to be effective 9/1/2025.

Filed Date: 6/18/25.

Accession Number: 20250618-5086.

Comment Date: 5 p.m. ET 7/9/25.

Docket Numbers: ER25-2538-000.

Applicants: Southwest Power Pool, Inc.

Description: 205(d) Rate Filing: 3125R19 Basin Electric Power Cooperative NITSA and NOA to be effective 6/1/2025.

Filed Date: 6/18/25.

Accession Number: 20250618-5097.

Comment Date: 5 p.m. ET 7/9/25.

Docket Numbers: ER25-2539-000.

Applicants: Tri-State Generation and Transmission Association, Inc.

Description: 205(d) Rate Filing: Initial Filing of Service Agreement FERC No. 116 to be effective 5/20/2025.

Filed Date: 6/18/25.

Accession Number: 20250618-5107.

Comment Date: 5 p.m. ET 7/9/25.

Docket Numbers: ER25-2540-000.

Applicants: Tri-State Generation and Transmission Association, Inc.

Description: Tariff Amendment: Notice of Cancellation of Service Agreement FERC No. 107 to be effective 6/30/2025.

Filed Date: 6/18/25.

Accession Number: 20250618-5111.

Comment Date: 5 p.m. ET 7/9/25.

Docket Numbers: ER25-2541-000.

Applicants: SunZia Transmission, LLC.

Description: 205(d) Rate Filing: Amended & Restated GIA with SunZia Wind PoweCo LLC to be effective 8/18/2025.

Filed Date: 6/18/25.

Accession Number: 20250618-5211.

Comment Date: 5 p.m. ET 7/9/25.

Docket Numbers: ER25-2542-000.

Applicants: SunZia Transmission, LLC.

Description: Initial rate filing: TSA with SunZia Wind South LLC to be effective 8/18/2025.

Filed Date: 6/18/25.

Accession Number: 20250618-5214.

Comment Date: 5 p.m. ET 7/9/25.

Docket Numbers: ER25-2543-000.

Applicants: SunZia Transmission, LLC.

Description: Initial rate filing: TSA with SunZia Wind North LLC to be effective 8/18/2025.

Filed Date: 6/18/25.

Accession Number: 20250618-5218.

Comment Date: 5 p.m. ET 7/9/25.

Take notice that the Commission received the following public utility holding company filings:

Docket Numbers: PH25-9-000.

Applicants: Australian Retirement Trust Pty Ltd.

Description: Australian Retirement Trust Pty Ltd submits FERC 65-B Notice of Change in Fact to Waiver Notification.

Filed Date: 6/17/25.

Accession Number: 20250617-5274.

Comment Date: 5 p.m. ET 7/8/25.

Docket Numbers: PH25-10-000.

Applicants: Stichting Pensioenfonds ABP.

Description: Stichting Pensioenfonds ABP submits FERC 65-B Notice of Change in Fact to Waiver Notification.

Filed Date: 6/17/25.

Accession Number: 20250617-5276.

Comment Date: 5 p.m. ET 7/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 18, 2025.
Carlos D. Clay,
Deputy Secretary.

[FR Doc. 2025-11564 Filed 6-23-25; 8:45 am]

BILLING CODE 6717-01-P